ENVIRONMENTAL PROTECTION AGENCY

[ER-FRL-6666-1]

Environmental Impacts Statements; Notice of Availability

Responsible Agency: Office of Federal Activities, General Information (202) 564-7167 or http://www.epa.gov/compliance/nepa/.

Weekly receipt of Environmental Impact Statements

Filed 07/25/2005 through 07/29/2005

Pursuant to 40 CFR 1506.9.

EIS No. 20050313, Final EIS, DOE, UT, Moab Uranium Mill Trails Remediation, Proposal to Clean Up Surface Contamination and Implement a Ground Water Strategy, Grand and San Juan Counties, UT, Wait Period Ends: 09/05/2005, Contact: Donald R. Metzler 1-800-637-4575.

This document is available on the Internet at: http://gj.em.doe.gov/moab/eis/feis.htm.

EIS No. 20050314, Final EIS, AFS, MT, Grasshopper Fuels Management Project, Modification of Vegetation Conditions, Reduction in Fuel Loads and Break Up Fuel Continuity, Beaverhead-Deerlodge National Forest, Dillon Ranger District, Beaverhead County, MT, Wait Period Ends: 09/05/2005, Contact: Greg Clark 406-683-3935.

EIS No. 20050315, Draft EIS, AFS, UT, Fishlake National Forest Off-Highway Vehicle Route Designation Project, Proposes to Designate a System of Motorized Road, Trails, and Areas to Revise and Update the Existing Motorized Travel Plan, UT, Comment Period Ends: 09/19/2005, Contact: Dale Deiter 435-896-1007.

EIS No. 20050316, Final EIS, FAA, IL, O'Hare Modernization Program, Proposes Major Development, Chicago O'Hare International Airport, Airport Layout Plan (ALP), Federal Funding, U.S. Army COE Section 404 Permit, City of Chicago, IL, Wait Period Ends: 09/05/2005, Contact: Michael W. MacMullen 847-294-8339.

EIS No. 20050317, Final EIS, NAS, FL, New Horizons Mission to Pluto, Continued Preparations and Implementation to Explore Pluto and Potentially the Recently Discovered Kuiper Belt, Cape Canaveral Air Force Station, FL, Wait Period Ends: 09/05/2005, Contact: Kurt Lindstrom 202-358-1588.

EIS No. 20050318, Draft EIS, BIA, MI, Nottawaseppi Huron Band of Potawatomi Indians (the Tribe), Proposes Fee-to-Trust Transfer and Casino Project, Calhoun County, MI, Comment Period Ends: 10/03/2005 Contact: Terrance L. Virden 612-725-4510.

EIS No. 20050319, Draft EIS, FTA, UT, Mid-Jordan Transit Corridor Project, Proposed Light Rail Transit Service, Funding, Salt Lake County, UT, Comment Period Ends: 09/19/2005, Contact: Don Cover 720-963-3300.

EIS No. 20050320, Final EIS, AFS, UT, Wasatch Plateau Grazing Project, Proposal to Continue to Authorize Sheep Grazing by Issuance of a Term Grazing Permits on 31 Sheep Allotments, Manti-La Sal National Forest, Sanpete, Ferron and Price Ranger Districts, Sanpete, Carbon, Utah and Emery County, UT, Wait Period Ends: 09/05/2005, Contact: John Healy 435-636-3585.

EIS No. 20050321, Draft EIS, USA, PA, Pennsylvania Army National Guard's 56th Brigade Transformation into a Stryker Brigade Combat Team (SBCT), Proposal to Comply with this Directive, near Annville, PA, Comment Period Ends: 09/19/2005, Contact: Cpt. Patricia Rickard 717-861-2580.

EIS No. 20050322, Final EIS, FRC, WA, Capacity Replacement Project, Construction and Operation of 79.5 miles Pipeline: Modify 5 Existing Compressor Stations, U.S. Army COE 10 and 404 Permits, Whatcom, Skagit, Snohomish, King, Pierce and Thurston Counties, WA, Wait Period Ends: 09/05/2005, Contact: Peter Contreras 206-553-6708.

EIS No. 20050323, Final EIS, NOA, CA, Monterey Accelerated Research Systems (MARS) Cabled Observatory, Proposes to Install and Operate an Advanced Undersea Cabled Observatory, Monterey Bay, Pacific Ocean Offshore of Moss Landing, Monterey County, CA, Wait Period Ends: 09/05/2005, Contact: William Douros 831-647-4201.

EIS No. 20050324, Final EIS, FRA, FL, Florida High Speed Rail, Tampa to Orlando, Transportation Improvement, NPDES Permit and U.S. Army COE Section 404 Permit, Hillsborough, Orange Osceola, and Polk Counties, FL, Wait Period Ends: 09/05/2005, Contact: David Valenstein 202-493-6368.

Amended Notices

EIS No. 20050222, Draft EIS, FAA, AZ, Phoenix Sky Harbor International Airport (PHX), Construction and Operation of a Terminal, Airfield and Surface Transportation, City of Phoenix, Maricopa County, AZ, Comment Period Ends: 08/10/2005, Contact: Jennifer Mendelsohn 310-725-3637.

Revision of Federal Register Notice Published 06/10/2005: Extending the Comment Period from 07/26/2005 to 08/10/2005.

EIS No. 20050262, Draft EIS, FHW, DC, Klingle Road Reconstruction Project, Reconstructing for Vehicular and Recreational Uses, Between Porter Street, NW., and Cortland Place, NW., Funding, Washington, DC, Comment Period Ends: 09/15/2005, Contact: Michael Hicks, 202-219-3513.

Revision of Federal Register Notice Published 07/01/2005: Extending the Comment Period from 08/15/2005 to 09/15/2005.

Dated: August 2, 2005.
Robert W. Hargrove,
Director, NEPA Compliance Division, Office of Federal Activities.

[FR Doc. 05-15520 Filed 8-4-05; 8:45 am]

BILLING CODE 6560-50-P